DEPARTMENT OF HEALTH AND HUMAN SERVICES

National Institutes of Health

National Institute of Neurological Disorders and Stroke; Notice of Closed Meeting

Pursuant to section 1009 of the Federal Advisory Committee Act, as amended, notice is hereby given of a meeting of the Board of Scientific Counselors, National Institute of Neurological Disorders and Stroke.

The meeting will be closed to the public as indicated below in accordance with the provisions set forth in section 552b(c)(6), title 5 U.S.C., as amended for the review, discussion, and evaluation of individual intramural programs and projects conducted by the National Institute of Neurological Disorders and Stroke, including consideration of personnel qualifications and performance, and the competence of individual investigators, the disclosure of which would constitute a clearly unwarranted invasion of personal privacy.

Name of Committee: Board of Scientific Counselors, National Institute of Neurological Disorders and Stroke.

Date: October 17, 2023.

Time: 2:00 p.m. to 5:30 p.m.

Agenda: To review and evaluate personnel qualifications and performance, and competence of individual investigators.

Place: Porter Neuroscience Research Center, Building 35A, 35 Convent Drive, Bethesda, MD 20892 (Virtual Meeting).

Date: October 23-24, 2023.

Time: October 23, 2023, 8:30 a.m. to 9:00 p.m.; October 24, 2023, 9:00 a.m. to 12:30 p.m.

Agenda: To review and evaluate personnel qualifications and performance, and competence of individual investigators.

Place: The Bethesdan Hotel, 8120 Wisconsin Avenue, Bethesda, Maryland 20814 (Hybrid Meeting).

Contact Person: Jeffrey S. Diamond, Ph.D., Scientific Director, c/o Caren Collins, National Institute of Neurological Disorders and Stroke, NIH, Building 35, Room GF-149, Bethesda, MD 20892, 301-435-1896, diamondj@ninds.nih.gov; collinsca@ninds.nih.gov.

(Catalogue of Federal Domestic Assistance Program Nos. 93.853, Clinical Research Related to Neurological Disorders; 93.854, Biological Basis Research in the Neurosciences, National Institutes of Health, HHS)

Dated: September 15, 2023.
Tyeshia M. Roberson-Curtis,
Program Analyst, Office of Federal Advisory Committee Policy.

[FR Doc. 2023-20420 Filed 9-20-23; 8:45 am]

BILLING CODE 4140-01-P